DEPARTMENT OF TRANSPORTATION

National Highway Traffic Safety Administration

[Docket No. NHTSA-2023-0047; Notice 1]

Michelin North America, Inc., Receipt of Petition for Decision of Inconsequential Noncompliance

AGENCY: National Highway Traffic Safety Administration (NHTSA), Department of Transportation (DOT).

ACTION: Receipt of petition.

SUMMARY: Michelin North America, Inc. (MNA) has determined that certain Michelin LTX AT2 tires do not fully comply with Federal Motor Vehicle Safety Standard (FMVSS) No. 139, New Pneumatic Radial Tires For Light Vehicles. MNA filed an original noncompliance report dated April 14, 2023, and later amended the report on July 3, 2023. MNA subsequently petitioned NHTSA (the “Agency”) on April 17, 2023, and later amended the petition on July 6, 2023, for a decision that the subject noncompliance is inconsequential as it relates to motor vehicle safety. This document announces receipt of MNA's petition.

DATES: Send comments on or before April 25, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jayton Lindley, General Engineer, NHTSA, Office of Vehicle Safety Compliance, (325) 655-0547.

SUPPLEMENTARY INFORMATION:

I. Overview: MNA determined that certain Michelin LTX AT2 tires sizes LT275/65R20 and 126/123R do not fully comply with paragraphs S5.5(e) and S5.5(f) of FMVSS No. 139, New Pneumatic Radial Tires For Light Vehicles (49 CFR 571.139).

MNA filed an original noncompliance report dated April 14, 2023, and later amended the report on July 3, 2023, pursuant to 49 CFR part 573, Defect and Noncompliance Responsibility and Reports. MNA petitioned NHTSA on April 17, 2023, and later amended the petition on July 6, 2023, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of MNA's petition is published under 49 U.S.C. 30118 and 30120 and does not represent any agency decision or another exercise of judgment concerning the merits of the petition.

II. Tires Involved: Approximately 7,153 Michelin LTX AT2 tires sized LT275/65R20 and 126/123R, manufactured between January 15, 2023, and February 8, 2023, were reported by the manufacturer.

III. Noncompliance: MNA explains that the subject tires contain incorrect information regarding the general name of cord materials and actual number of plies on the intended outboard sidewall of the tires, and therefore, do not fully comply with paragraphs S5.5(e) and S5.5(f) of FMVSS No. 139. Specifically, the sidewall of the subject tires states “TREAD PLIES: 2 POLYESTER + 2 STEEL SIDEWALL PLIES: 2 POLYESTER,” when they should state “TREAD PLIES: 2 POLYESTER + 1 POLYAMIDE + 2 STEEL SIDEWALL PLIES: 2 POLYESTER.”

IV. Rule Requirements: Paragraphs S5.5(e) and S5.5(f) of FMVSS No. 139 include the requirements relevant to this petition. Except as specified in paragraphs (a) through (i) of S5.5, each tire must be marked on each sidewall with the information specified in S5.5(a) through (d) and on one sidewall with the information specified in S5.5(e) through (i) according to the phase-in schedule specified in S7 of this standard. The markings must be placed between the maximum section width and the bead on at least one sidewall, unless the maximum section width of the tire is located in an area that is not more than one-fourth of the distance from the bead to the shoulder of the tire. If the maximum section width falls within that area, those markings must appear between the bead and a point one-half the distance from the bead to the shoulder of the tire, on at least one sidewall. The markings must be in letters and numerals not less than 0.078 inches high and raised above or sunk below the tire surface not less than 0.015 inches. Paragraph S5.5(e) requires that the sidewall be marked with the generic name of each cord material used in the plies (both sidewall and tread area) of the tire, and paragraph S5.5(f) requires that the sidewall be marked with the actual number of plies in the sidewall, and the actual number of plies in the tread area, if different.

V. Summary of MNA's Petition: The following views and arguments presented in this section, “V. Summary of MNA's Petition,” are the views and arguments provided by MNA. They have not been evaluated by the Agency and do not reflect the views of the Agency. MNA describes the subject noncompliance and contends that the noncompliance is inconsequential as it relates to motor vehicle safety.

MNA explains that the subject noncompliance occurred as a result of an error made by a maintenance employee at the manufacturing site. On January 15, 2023, the employee accidentally used the incorrect plaquette when replacing a loose one in a mold for the subject tire. A tire verification employee noticed a gap in the information in the tread plies plaquette on the intended outboard side of the tire and notified the Quality team. MNA says that its internal investigation revealed that of the 7,997 tires produced, approximately 813 affected tires were identified and contained and approximately 598 affected tires (8 percent) of the production during this time period had entered the U.S. market.

MNA asserts that the subject tires comply with all applicable FMVSS tire safety performance standards and they are marked with the correct tire size information, including the load range and maximum single and dual loads at the specified pressures. Further, MNA says that the subject tires were tested and passed all applicable FMVSS No. 139 performance tests. MNA says that it has taken corrective measures and removed the incorrect plaquette from the mold used on the subject tires and replaced it with the correct plaquette.

MNA contends that NHTSA has found petitions for similar noncompliances to be inconsequential to motor vehicle safety. MNA provides the following examples:

1. Michelin North America, Inc., NHTSA docket number 2020-0092, granted 7 February 2022

2. Hankook Tire America Corporation, NHTSA docket number 2020-0020, granted 21 January 2022

3. Continental Tire the Americas, LLC, NHTSA docket number 2017-0040, granted 30 July 2018

4. Sumitomo Rubber Industries, Ltd., NHTSA docket number 2017-0071, granted 26 March 2018

5. The Goodyear Tire and Rubber Company, NHTSA docket number 2016-0107, granted 17 April 2017

MNA concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that MNA no longer controlled at the time it determined that the noncompliance existed. However, any decision on this petition does not relieve tires distributors and dealers of the prohibitions on the sale, offer for sale, or introduction or delivery for introduction into interstate commerce of the noncompliant tires under their control after MNA notified them that the subject noncompliance existed.

(Authority: 49 U.S.C. 30118, 30120: delegations of authority at 49 CFR 1.95 and 501.8)

Otto G. Matheke III,
Director, Office of Vehicle Safety Compliance.

[FR Doc. 2024-06423 Filed 3-25-24; 8:45 am]

BILLING CODE 4910-59-P